DEPARTMENT OF HOUSING AND URBAN DEVELOPMENT

[Docket No. FR-5909-N-81]

30-Day Notice of Proposed Information Collection: Surveys of Community Development Marketplace Project Inventory and Recipients and Providers of HUD Technical Assistance and Training

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: December 28, 2016.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov

FOR FURTHER INFORMATION CONTACT: Anna P. Guido, Reports Management Officer, QMAC, Department of Housing and Urban Development, 451 7th Street SW., Washington, DC 20410; email Anna P. Guido at Anna P. Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on March 25, 2016 81 FR 16194.

A. Overview of Information Collection

Title of Information Collection: Surveys of Community Development Marketplace Project Inventory and Recipients and Providers of HUD Technical Assistance and Training.

OMB Approval Number: 2506-New.

Type of Request: New collection.

Form Number: None.

The total burden hours are estimated at 5,428 hours annually. The weighted average burden per response is 0.39 hours or 23.4 minutes.

Information collection | Number of respondents | Frequency of response | Responses per annum | Burden hour per response | Annual burden hours | Hourly cost per response | Annual cost
CDM project intake survey (and follow up feedback) | 332 | 4.00 | 1328 | 2.25 | 2988.00 | ¹ $40.46 | $120,894.48
Outcomes Survey of Providers of Direct TA | 1140 | ² 1.10 | 1254 | 0.25 | 313.50 | ³ $40.46 | $12,684.21
Outcomes Survey of Recipients of Direct TA provided by third-party organizations | 1140 | ⁴ 1.10 | 1254 | 0.25 | 313.50 | ⁵ $28.39 | $8,900.27
Outcomes Survey of Recipients of HUD Staff-Led TA under Community Partnerships | 180 | 1.00 | 180 | 0.25 | 45.00 | ⁶$28.39 | $1,277.55
Survey of HUD Training Participants (In Person/Classroom) | 3500 | ⁷ 1.30 | 4550 | 0.16 | 728.00 | ⁸ $23.46 | $17,078.88
Survey of HUD Training Participants (Web-based/Online) | 5000 | ⁹ 1.30 | 6500 | 0.16 | 1040.00 | ¹⁰ $23.46 | $24,398.40
Totals | 11,292 | 9.80 | 15,066 | 3.32 | 5,428.00 | $184.62 | $185,233.79
¹ Hourly rate based off of GS-13-01 Schedule for “Rest of the U.S.” as of October 2016.
² HUD anticipates that a small percentage of TA providers will provide multiple TA engagements, and therefore be asked to complete two surveys.
³ Hourly rate based off of GS-13-01 Schedule for “Rest of the U.S.” as of October 2016.
⁴ HUD anticipates that a small percentage of TA recipients will receive multiple TA engagements, and therefore be asked to complete two surveys.
⁵ Hourly rate based off of GS-11-01 Schedule for “Rest of the U.S.” as of October 2016.
⁶ Hourly rate based off of GS-11-01 Schedule for “Rest of the U.S.” as of October 2016.
⁷ HUD anticipates that approximately 30% of in person trainees will complete multiple trainings, and therefore be asked to complete more than one survey.
⁸ Hourly rate based off of GS-09-01 Schedule for “Rest of the U.S.” as of October 2016.
⁹ HUD anticipates that approximately 30% of online trainees will complete multiple trainings, and therefore be asked to complete more than one survey.
¹⁰ Hourly rate based off of GS-09-01 Schedule for “Rest of the U.S.” as of October 2016.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: November 18, 2016.
Anna P. Guido,
Department Reports Management Officer, Office of the Chief Information Officer.

[FR Doc. 2016-28446 Filed 11-25-16; 8:45 am]

BILLING CODE 4210-67-P